DEPARTMENT OF ENERGY

Federal Energy Regulatory Commission

Notice of Staff Attendance at North American Electric Reliability Corporation Reliability Assessment Subcommittee Meeting; Standard Drafting Team Meeting; and Industry Webinar

The Federal Energy Regulatory Commission hereby gives notice that members of the Commission and/or Commission staff may attend the following meetings:

North American Electric Reliability Corporation: Project 2021-02 Modifications to VAR-002 Standard Drafting Team Meeting, WebEx, July 9, 2024 | 9:00 a.m.-11:00 a.m. Eastern.

Further information regarding this meeting and how to join remotely may be found at: https://www.nerc.com/pa/Stand/Lists/stand/DispForm.aspx?ID=2369.

North American Electric Reliability Corporation: Reliability Assessment Subcommittee Meeting:

Southwest Power Pool Offices, 201 Worthen Drive, Little Rock, AR 72223.

July 9, 2024 | 8:30 a.m.-5:00 p.m. Central

July 10, 2024 | 8:30 a.m.-5:00 p.m. Central

July 11, 2024 | 8:30 a.m.-5:00 p.m. Central

Further information regarding this meeting and how to join remotely may be found at: https://www.eventbrite.com/e/reliability-assessment-subcommittee-meeting-july-2024-registration-910659024657?aff=oddtdtcreator.

North American Electric Reliability Corporation: Industry Webinar: FERC Order No. 901 Milestone 3, WebEx, July 10, 2024 | 12:00 p.m.-1:00 p.m. Eastern.

Further information regarding this meeting and how to join remotely may be found at: https://www.nerc.com/pa/Stand/Lists/stand/DispForm.aspx?ID=2370.

The discussions at the meetings, which are open to the public, may address matters at issue in the following Commission proceedings:

Docket No. RR24-2-000 North American Electric Reliability Corporation

For further information, please contact Leigh Anne Faugust (202) 502-6396 or leigh.faugust@ferc.gov.

Dated: June 17, 2024.
Debbie-Anne A. Reese,
Acting Secretary.

[FR Doc. 2024-13799 Filed 6-21-24; 8:45 am]

BILLING CODE 6717-01-P